ARCHITECTURAL AND TRANSPORTATION BARRIERS COMPLIANCE BOARD

Meeting

AGENCY: Architectural and Transportation Barriers Compliance Board.

ACTION: Notice of meeting.

SUMMARY: The Architectural and Transportation Barriers Compliance Board (Access Board) has scheduled its regular business meetings to take place in Washington, DC on Tuesday and Wednesday, January 14-15, 2003, at the times and location noted below.

DATES: The schedule of events is as follows:

Tuesday, January 14, 2003

11-12:30 p.m. Technical Programs Committee

2-5 p.m. Passenger Vessels Ad Hoc Committee (Closed Session)

Wednesday, January 15, 2003

9:30-10:30 a.m. Planning and Budget Committee

10:30-Noon Executive Committee

1:30-3:30 p.m. Board Committee

ADDRESSES: The meetings will be held at the Marriott at Metro Center Hotel, 775 12th Street, NW., Washington, DC.

FOR FURTHER INFORMATION CONTACT: For further information regarding the meetings, please contact Lawrence W. Roffee, Executive Director, (202) 272-0001 (voice) and (202) 272-0082 (TTY).

SUPPLEMENTARY INFORMATION: At the Board meeting, the Access Board will consider the following agenda items.

Open Meeting

• Executive Director's Report

• Approval of the September 10, 2002 Board Meeting Minutes

• Technical Programs Committee Report

• Planning and Budget Committee Report

• Executive Committee Report

Closed Meeting

• Passenger Vessels Accessibility Guidelines

All meetings are accessible to persons with disabilities. Sign language interpreters and an assistive listening system are available at all meetings. Persons attending Board meetings are requested to refrain from using perfume, cologne, and other fragrances for the comfort of other participants.

James J. Raggio,
General Counsel.

[FR Doc. 02-32803 Filed 12-27-02; 8:45 am]

BILLING CODE 8150-01-P